DEPARTMENT OF THE INTERIOR

Fish and Wildlife Service

[FWS-R1-ES-2014-N180; FXES11130100000-145-FF01E00000]

Endangered Species; Issuance of Permits

AGENCY: Fish and Wildlife Service, Interior.

ACTION: Notice of issuance of permits.

SUMMARY: We, the U.S. Fish and Wildlife Service, have issued the following permits to conduct certain activities with endangered species under the authority of the Endangered Species Act, as amended (Act).

ADDRESSES: Program Manager for Restoration and Endangered Species Classification, Ecological Services, U.S. Fish and Wildlife Service, Pacific Regional Office, 911 NE 11th Avenue, Portland, OR 97232-4181.

FOR FURTHER INFORMATION CONTACT: Colleen Henson, Fish and Wildlife Biologist, at the above address or by telephone (503-231-6131) or fax (503-231-6243).

SUPPLEMENTARY INFORMATION: We have issued the following permits to conduct activities with endangered species in response to recovery and interstate commerce permit applications we received under the authority of section 10 of the Act (16 U.S.C. 1531 et seq.). These permits were issued between January 1 and June 30, 2014. Each permit listed below was issued only after we determined that it was applied for in good faith, that granting the permit would not be to the disadvantage of the listed species, that the proposed activities were for scientific research or would benefit the recovery or the enhancement of survival of the species, and that the terms and conditions of the permit were consistent with the purposes and policy set forth in the Act.

Applicant | Permit No. | Date issued | Date expires
Oregon Department of Fish and Wildlife | 21614B | 1/30/2014 | 1/29/2018
Washington Department of Fish and Wildlife | 19239B | 3/11/2014 | 3/10/2019
Power Engineers, Inc. | 24048B | 3/13/2014 | 3/12/2018
Dibben-Young, Arleone | 146777 | 3/21/2014 | 3/20/2017
Westergard, Eric W. | 28628B | 4/10/2014 | 4/9/2015
Fitzpatrick, Greg S. | 08913A | 4/24/2014 | 6/29/2018
USDA Forest Service, Institute of Pacific Islands Forestry | 28360B | 6/11/2014 | 6/10/2019
Amnis Opes Institute, LLC | 98468A | 6/11/2014 | 6/10/2018

Availability of Documents

Documents and other information submitted with these applications are available for review, subject to the requirements of the Privacy Act and Freedom of Information Act, by any party who submits a written request for a copy of such documents (see FOR FURTHER INFORMATION CONTACT).

Authority: We provide this notice under the authority of section 10 of the Act (16 U.S.C. 1531 et seq.).

Dated: September 5, 2014.
Hugh Morrison,
Acting Regional Director, Pacific Region, U.S. Fish and Wildlife Service.

[FR Doc. 2014-21767 Filed 9-11-14; 8:45 am]

BILLING CODE 4310-55-P